DEPARTMENT OF ENERGY

Federal Energy Regulatory Commission

[Docket No. EL01-63-000]

PJM Interconnection, L.L.C.; Notice of Complaint

April 9, 2001.

Take notice that on April 5, 2001, PJM Interconnection L.L.C. (PJM), filed a complaint requesting that the Reliability Assurance Agreement Among Load Serving Entities In The PJM Control Area (RAA) be amended to: (a) Adjust the time period over which a load serving entity must commit generation resources to PJM to meet its capacity obligations under the RAA from a daily commitment to a seasonal commitment (ranging from three to five months), (b) adjust the deficiency charge provisions to provide for a seasonal penalty, rather than a daily penalty, when load serving entities have insufficient capacity to meet their capacity obligations under the RAA, and (c) require generation owners to commit excess capacity to PJM (capacity not already committed to a load serving entity) seasonally, rather than daily, in order to participate in any distribution of revenues from capacity deficiency charges to load serving entities.

PJM requests an effective date of July 1, 2001 for the amendments. It also requests fast track processing of the complaint under Rule 206(h) (18 CFR 385.206(h)) and for the Commission to act no later than June 5, 2001.

Copies of this filing were served upon all parties to the RAA and each state electric utility regulatory commission in the PJM control area.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before April 16, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before April 16, 2001.

Comments, protests and interventions may be filed electronically via the internet in lieu of paper. See, 18 CFR 385.2001(a)(1)(iii) and the instructions on the Commission's web site at http://www.ferc.fed.us/efi/doorbell.htm.

David P. Boergers,
Secretary.

[FR Doc. 01-9305 Filed 4-13-01; 8:45 am]

BILLING CODE 6717-01-M